DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Licensing, tel.: 202-622-2480; Assistant Director for Sanctions Compliance & Evaluation, tel.: 202-622-2490; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (http://www.treasury.gov/ofac).

Notice of OFAC Actions

On November 20, 2018, OFAC determined that the property and interests in property subject to U.S. jurisdiction of the following persons are blocked under the relevant sanctions authorities listed below.

Individuals

1. ALCHWIKI, Mhd Amer (a.k.a. AL CHWIKI, Mohamad Amer Mohamad Akram; a.k.a. ALCHWIKI, Amer; a.k.a. ALCHWIKI, Amer Mhd; a.k.a. ALCHWIKI, Mohamad Amer; a.k.a. AL-SHUWAYKI, Muhammad 'Amir Muhammad Akram; a.k.a. AL-SHWEIKI, Mohamad Amer; a.k.a. AL-SHWEIKI, Muhammad Omar; a.k.a. ALSHWIKI, Mhd Amer (Cyrillic: АЛЬШВИКИ, Мхд Амер); a.k.a. CHWIKI, Mohammad Amer; a.k.a. SHUWAYKI, Mohamad Amer; a.k.a. SHWEIKI, Mohammad Amer), 71 Linton Road, Acton, London W3 9HL, United Kingdom; Syria; DOB 04 Sep 1972; POB Damascus, Syria; nationality Syria; citizen Syria; Additional Sanctions Information—Subject to Secondary Sanctions Pursuant to the Hizballah Financial Sanctions Regulations; alt. Additional Sanctions Information—Subject to Secondary Sanctions; Gender Male; Passport N012430661; alt. Passport N010794545; alt. Passport N007024509; alt. Passport N005668098 (individual) [SDGT] [SYRIA] [IRGC] [IFSR] (Linked To: GLOBAL VISION GROUP; Linked To: ISLAMIC REVOLUTIONARY GUARD CORPS (IRGC)-QODS FORCE; Linked To: HIZBALLAH).

Designated pursuant to section 1(b)(i) of Executive Order 13582 of August 17, 2011, “Blocking Property of the Government of Syria and Prohibiting Certain Transactions With Respect to Syria” (E.O. 13582) for materially assisting, sponsoring, or providing financial, material, or technological support for, or goods or services in support of, CENTRAL BANK OF SYRIA, an entity identified as meeting the definition of the Government of Syria, as set forth in section 8(d) of E.O. 13582 and section 542.305 of the Syrian Sanctions Regulations, 31 CFR part 542.

Also designated pursuant to section 1(b)(ii) of E.O. 13582 for having acted or purported to act for or on behalf of, directly or indirectly, GLOBAL VISION GROUP, an entity whose property and interests in property are blocked pursuant to E.O. 13582.

Also designated pursuant to section 1(d)(i) of Executive Order 13224 of September 23, 2001, “Blocking Property and Prohibiting Transactions With Persons Who Commit, Threaten to Commit, or Support Terrorism” (E.O. 13224) for assisting in, sponsoring, or providing financial, material, or technological support for, or financial or other services to or in support of, ISLAMIC REVOLUTIONARY GUARD CORPS (IRGC)-QODS FORCE, an entity whose property and interests in property are blocked pursuant to E.O. 13224.

Also designated pursuant to section 1(d)(i) of E.O. 13224 for assisting in, sponsoring, or providing financial, material, or technological support for, or financial or other services to or in support of, HIZBALLAH, an entity whose property and interests in property are blocked pursuant to E.O. 13224.

2. AL-BAZZAL, Muhammad Qasim (a.k.a. BAZZAL, Mohamad; a.k.a. “MU'IN”); DOB 26 Aug 1984; POB Ba'albakk, Lebanon; Additional Sanctions Information—Subject to Secondary Sanctions Pursuant to the Hizballah Financial Sanctions Regulations; Gender Male; Passport LR0510789; Identification Number 18349929 (Lebanon) (individual) [SDGT] (Linked To: HIZBALLAH).

Designated pursuant to section 1(c) of E.O. 13224 for acting for or on behalf of HIZBALLAH, an entity whose property and interests in property are blocked pursuant to E.O. 13224.

3. DOGAEV, Andrey (a.k.a. DOGAYEV, Andrey; a.k.a. DOGAYEV, Andrey Yuryevich (Cyrillic: ДОГАЕВ, Андрей Юрьевич)); DOB 19 Dec 1955; POB Russia; Gender Male; Passport 72 9279533 (Russia) issued 27 Aug 2014 expires 27 Aug 2024; First Deputy Director of Promsyrioimport (individual) [SYRIA] (Linked To: PROMSYRIOIMPORT).

Designated pursuant to section 1(b)(ii) of E.O. 13582 for having acted or purported to act for or on behalf of, directly or indirectly, PROMSYRIOIMPORT, an entity whose property and interests in property are blocked pursuant to E.O. 13582.

4. SAJJAD, Rasoul (a.k.a. SAJJAD, Rassoul; a.k.a. SAJJAD, Rasul), Iran; DOB 09 Aug 1970; POB Esfahan, Iran; Additional Sanctions Information—Subject to Secondary Sanctions; Gender Male; Passport G9333110 (Iran) issued 03 Mar 2014 expires 03 Mar 2019; (individual) [SDGT] [IRGC] [IFSR] (Linked To: ISLAMIC REVOLUTIONARY GUARD CORPS (IRGC)-QODS FORCE).

Designated pursuant to section 1(d)(i) of E.O. 13224 for assisting in, sponsoring, or providing financial, material, or technological support for, or financial or other services to or in support of, Iran's ISLAMIC REVOLUTIONARY GUARD CORPS-QODS FORCE, an entity whose property and interests in property are blocked pursuant to E.O. 13224.

5. YAGHOUBI MIAB, Hossein (a.k.a. YAGHOOBI MAYAB, Hossein; a.k.a. YAGHOOBI, Hossein; a.k.a. YAGHUBI MAYAB, Hosein; a.k.a. YAQUBI, Hosein), Iran; DOB 23 Jul 1961; POB Tehran, Iran; Additional Sanctions Information—Subject to Secondary Sanctions; Gender Male; Passport G9342868 (Iran) issued 16 Mar 2016 expires 16 Mar 2021 (individual) [SDGT] [IRGC] [IFSR] (Linked To: ISLAMIC REVOLUTIONARY GUARD CORPS (IRGC)-QODS FORCE).

Designated pursuant to section 1(d)(i) of E.O. 13224 for assisting in, sponsoring, or providing financial, material, or technological support for, or financial or other services to or in support of, Iran's ISLAMIC REVOLUTIONARY GUARD CORPS-QODS FORCE, an entity whose property and interests in property are blocked pursuant to E.O. 13224.

Entities

1. GLOBAL VISION GROUP (a.k.a. LIMITED LIABILITY COMPANY GLOBAL CONCEPTS GROUP (Cyrillic: ОБЩЕСТВО С ОГРАНИЧЕННОЙ ОТВЕТСТВЕННОСТЬЮ ГЛОБАЛЬНЫЕ КОНЦЕПЦИИ ГРУПП); a.k.a. “LLC GKG” (Cyrillic: “ООО ГКГ”)), Office I Room 7, Building 3, House 22, Staromonetny Lane, Moscow 119180, Russia; Russia; Staromonetne STR 22/3, Moscow, Russia; Additional Sanctions Information—Subject to Secondary Sanctions Pursuant to the Hizballah Financial Sanctions Regulations; alt. Additional Sanctions Information—Subject to Secondary Sanctions [SDGT] [SYRIA] [IRGC] [IFSR] (Linked To: BANIAS REFINERY COMPANY; Linked To: ALCHWIKI, Mhd Amer).

Designated pursuant to section 1(b)(i) of E.O. 13582 for having materially assisted, sponsored, or provided financial, material, or technological support for, or goods or services in support of, BANIAS REFINERY COMPANY, an entity identified as meeting the definition of the Government of Syria as set forth in section 8(d) of E.O. 13582 and section 542.305 of the Syrian Sanctions Regulations, 31 CFR part 542.

Also designated pursuant to section 1(b)(i) of E.O. 13582 for having materially assisted, sponsored, or provided financial, material, or technological support for, or goods or services in support of, CENTRAL BANK OF SYRIA, an entity identified as meeting the definition of the Government of Syria as set forth in section 8(d) of E.O. 13582 and section 542.305 of the Syrian Sanctions Regulations, 31 CFR part 542.

Also designated pursuant to section 1(c) of E.O. 13224 for being owned or controlled by, Mhd Amer ALCHWIKI, an individual whose property and interests in property are blocked pursuant to E.O. 13224.

2. PROMSYRIOIMPORT (a.k.a. FEDERAL STATE UNITARY ENTERPRISE FOREIGN ECONOMIC ASSOCIATION PROMSYRIOIMPORT; a.k.a. PROMSYRIOIMPORT FOREIGN ECONOMIC ASSOCIATION S.O.C.; a.k.a. VO PROMSYRIEIMPORT (Cyrillic: ВО ПРОМСЫРЬЕИМПОРТ); a.k.a. VO PROMSYRIEIMPORT FGUP; a.k.a. VO PROMSYRIOIMPORT), d. 13 str. 4, bulvar Novinski, Moscow 121099, Russia; 13 Novinski Boulevard, Moscow 121834, Russia; Novinskiy Boulevard 13, Building 4, Moscow 123995, Russia; Novinsky bld. 13, build 4, Moscow 121099, Russia; Government Gazette Number 01860331; Registration Number 1027700499903 (Russia); Tax ID No. 7704140399 (Russia) [SYRIA] (Linked To: SYRIAN COMPANY FOR OIL TRANSPORT).

Designated pursuant to section 1(b)(i) of E.O. 13582 for having materially assisted, sponsored, or provided financial, material, or technological support for, or goods or services in support of, SYRIAN COMPANY FOR OIL TRANSPORT, an entity identified as meeting the definition of the Government of Syria as set forth in section 8(d) of E.O. 13582 and section 542.305 of the Syrian Sanctions Regulations, 31 CFR part 542.

3. MB BANK (f.k.a. BANK MELLI IRAN ZAO; a.k.a. JOINT STOCK COMPANY 'MIR BUSINESS BANK'; a.k.a. JSC 'MB BANK'; a.k.a. MB BANK, AO; a.k.a. MIR BIZNES BANK; a.k.a. MIR BIZNES BANK, AO; a.k.a. MIR BUSINESS BANK (Cyrillic: МИР БИЗНЕС БАНК); a.k.a. MIR BUSINESS BANK ZAO), 9/1 ul Mashkova, Moscow 105062, Russia; Russia; 9/1 Mashkova St., Moscow 105062, Russia; 6a Lenin Square Bld. A, Astrakhan 414000, Russia; SWIFT/BIC MRBBRUMM; website www.mbbru.com; Additional Sanctions Information—Subject to Secondary Sanctions; All Offices Worldwide [SDGT] [SYRIA] [IFSR] (Linked To: BANK MELLI IRAN; Linked To: GLOBAL VISION GROUP).

Designated pursuant to section 1(b)(i) of E.O. 13582 for having materially assisted, sponsored, or provided financial, material, or technological support for, or goods or services in support of, GLOBAL VISION GROUP, an entity whose property and interests in property are blocked pursuant to E.O. 13582.

4. TADBIR KISH MEDICAL AND PHARMACEUTICAL COMPANY (a.k.a. TADBIR KISH MEDICAL AND PHARMACEUTICAL CO.; a.k.a. TADBIR TED VA DAROYE KISH), Iran; Unit A103, 1st Floor, Padena Complex, Iran Blvd., Kish, Iran; Unit A301, 1st Floor, Padena Complex, Iran Blvd., Kish, Iran; Unit 301, 3rd Floor, Sadaf Tower, Kish, Iran [SYRIA] (Linked To: GLOBAL VISION GROUP).

Designated pursuant to section 1(b)(i) of E.O. 13582 for having materially assisted, sponsored, or provided financial, material, or technological support for, or goods or services in support of, GLOBAL VISION GROUP, an entity whose property and interests in property are blocked pursuant to E.O. 13582.

Dated: November 27, 2018.
Andrea M. Gacki,
Director, Office of Foreign Assets Control.

[FR Doc. 2018-26077 Filed 11-29-18; 8:45 am]

BILLING CODE 4810-AL-P